POSTAL SERVICE

39 CFR Part 20

International Mail Manual; Incorporation by Reference

AGENCY: Postal Service™.

ACTION: Final rule.

SUMMARY: The Postal Service announces the issuance of the Mailing Standards of the United States Postal Service, International Mail Manual (IMM®) dated March 4, 2019, and its incorporation by reference in the Code of Federal Regulations.

DATES: This final rule is effective on May 28, 2019. The incorporation by reference of the IMM is approved by the Director of the Federal Register as of May 28, 2019.

FOR FURTHER INFORMATION CONTACT: Carrie Nagla, (202) 268-7279.

SUPPLEMENTARY INFORMATION: The International Mail Manual was issued on March 4, 2019, and was updated with Postal Bulletin revisions through February 14, 2019. It replaced all previous editions. The IMM continues to enable the Postal Service to fulfill its long-standing mission of providing affordable, universal mail service. It continues to: (1) Increase the user's ability to find information; (2) increase the user's confidence that they have found the information they need; and (3) reduce the need to consult multiple sources to locate necessary information. The provisions throughout this issue support the standards and mail preparation changes implemented since the version of March 4. 2018. The International Mail Manual is available to the public on the Postal Explorer® internet site at http://pe.usps.com.

List of Subjects in 39 CFR Part 20

Foreign relations, Incorporation by reference.

In view of the considerations discussed above, the Postal Service hereby amends 39 CFR part 20 as follows:

PART 20—INTERNATIONAL POSTAL SERVICE

1. The authority citation for part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Amend § 20.1 by:

a. In paragraph (a), removing the words “issued March 5, 2018” and adding in their place “issued March 4, 2019”; and

b. In paragraph (b), adding an entry for “IMM” at the end of the table.

The addition reads as follows:

§ 20.1 International Mail Manual; incorporation by reference.

* * * * *

(b) * * *

Table 1 to Paragraph (b)
International mail manual | Date of issuance
* * * * *
IMM | March 4, 2019.

3. Revise § 20.2 to read as follows:

§ 20.2 Effective date of the International Mail Manual.

The provisions of the International Mail Manual issued March 4, 2019, are applicable with respect to the international mail services of the Postal Service.

Ruth Stevenson,
Attorney, Federal Compliance.

[FR Doc. 2019-11054 Filed 5-24-19; 8:45 am]

BILLING CODE 7710-12-P